DEPARTMENT OF COMMERCE

National Oceanic and Atmospheric Administration

[I.D. 052400C]

Endangered and Threatened Species; Notice of Availability for the Draft Recovery Plan for Johnson's Seagrass

AGENCY: National Marine Fisheries Service (NMFS), National Oceanic and Atmospheric Administration (NOAA), Commerce.

ACTION: Notice of availability of a draft recovery plan; request for comments.

SUMMARY: NMFS announces the availability of the draft recovery plan for Johnson's seagrass (Halophila johnsonii), a marine plant listed as threatened under the Endangered Species Act (ESA). NMFS is soliciting review and comment from the public on the draft plan, and will consider these comments in the preparation of a final recovery plan.

DATES: Comments on the draft recovery plan must be received no later than 5 p.m., Eastern standard time, on August 25, 2000.

ADDRESSES: A copy of the draft recovery plan is available from Layne Bolen, Protected Resources Division, NMFS, 9721 Executive Center Drive North, St. Petersburg, FL 33702-2439. Comments may also be sent via facsimile (fax) to 727-570-5517, but they will not be accepted if submitted via e-mail or Internet.

FOR FURTHER INFORMATION CONTACT: Layne Bolen at 850-234-6541 ext 237, Dr. Judson Kenworthy at 252-728-8750, or Marta Nammack at 301-713-1401 ext 116, or send a request via electronic mail to jsg.info@noaa.gov.

SUPPLEMENTARY INFORMATION:

Background

Johnson's seagrass, H. johnsonii, is a marine plant species found growing along approximately 200 km of coastline in southeastern Florida between Sebastian Inlet and north Biscayne Bay. It is listed as threatened under the Endangered Species Act (ESA). H. johnsonii is the first marine plant to be listed under the ESA. The ESA requires NMFS to develop and implement recovery plans for most species.

The draft recovery plan contains a synopsis of the biology and distribution of Johnson's seagrass, a description of factors affecting species recovery, an outline of actions needed to recover the species, and an implementation schedule for completing the recovery tasks.

Public Comments Solicited

NMFS intends that the final recovery plan will take advantage of information and recommendations from all interested parties. Therefore, comments and suggestions are solicited from the public, other concerned governmental agencies, the scientific community, industry, and any other person interested in the development of the recovery plan.

Authority: 16 U.S.C. 1531-1543 et seq.

Dated: June 19, 2000.
Penelope D. Dalton,
Assistant Administrator for Fisheries, National Marine Fisheries Service.

[FR Doc. 00-16112 Filed 6-23-00; 8:45 am]

BILLING CODE 3510-22-F